FEDERAL COMMUNICATIONS COMMISSION

Notice of Public Information Collections Being Reviewed by the Federal Communications Commission for Extension Under Delegated Authority, Comments Requested

October 9, 2009.

SUMMARY: The Federal Communications Commission, as part of its continuing effort to reduce paperwork burden invites the general public and other Federal agencies to take this opportunity to comment on the following information collection(s), as required by the Paperwork Reduction Act of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments on December 15, 2009. If you anticipate that you will be submitting comments, but find it difficult to do so within the period of time allowed by this notice, you should advise the contact listed below as soon as possible.

ADDRESSES: Direct all PRA comments to Nicholas A. Fraser, Office of Management and Budget (OMB), via fax at (202) 395-5167, or via the Internet at Nicholas_A._Fraser@omb.eop.gov and to Cathy Williams, Federal Communications Commission (FCC), 445 12th Street, SW, Washington, DC 20554. To submit your comments by e-mail send then to: PRA@fcc.gov and to Cathy.Williams@fcc.gov.

FOR FURTHER INFORMATION CONTACT: For additional information about the information collection(s) send an e-mail to PRA@fcc.gov or contact Cathy Williams on (202) 418-2918.

SUPPLEMENTARY INFORMATION: OMB Control Number: 3060-0106.

Title: Reporting Requirements for U.S. Providers of International Telecommunications Services and Affiliates; 47 CFR 43.53 and 43.61.

Form No.: Not Applicable.

Type of Review: Extension of a currently approved collection.

Respondents: Business or other for-profit.

Number of Respondents/Responses: 134 respondents; 134 responses.

Estimated Time Per Response: 2 hours.

Frequency of Response: Annual and quarterly reporting requirements.

Obligation to Respond: Required to obtain or retain benefits. The statutory authority for this collection is contained in Sections 1, 4(i), 4(j) 11, 201-205, 211, 214, 219, 220, 303(r), 309, and 403 of the Communications Act of 1934, as amended, 47 U.S.C. 151, 154(i), 154(j), 161, 201-205, 211, 214, 219, 220, 303(r), 309 and 403.

Total Annual Burden: 2,412 hours.

Annual Cost Burden: $216,534.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The purpose of this information collection is to obtain information from applicants and current licensees to further the Commission's goal of protecting U.S. consumers and U.S. carriers from anti-competitive conduct, ensure that consumers enjoy more choice in telecommunications services and decrease prices for international calls without imposing unnecessary paperwork burdens on carriers. If the information collection was not conducted or was conducted less frequently, the Commission would not be able to ensure compliance with its international rules and policies. Furthermore, the Commission would not have sufficient information to take measures to prevent anticompetitive conduct in the provision of international communications services. The Commission would not have adequate information to respond to failures in the U.S.-international market. The Commission would not be able to promote effective competition in the global market for communications services. The lack of effective competition would adversely affect the U.S. revenues in the telecommunications industry. The agency would not be able to comply with the international regulations stated in the World Trade Organization (WTO) Basic Telecom Agreement.

OMB Control Number: 3060-0572.

Title: Filing Manual for Annual International Circuit Status Reports; 47 CFR 43.82.

Form No.: Not Applicable.

Type of Review: Extension of a currently approved collection.

Respondents: Business or other for-profit.

Number of Respondents/Responses: 138 respondents; 138 responses.

Estimated Time Per Response: 9 hours.

Frequency of Response: Annual reporting requirement.

Obligation to Respond: Required to obtain or retain benefits. The statutory authority for this collection is contained in the Communications Act of 1934, as amended; 47 U.S.C. 211, 219 and 220.

Total Annual Burden: 1,300 hours.

Annual Cost Burden: $46,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

Section 43.82 of the Federal Communications Commission's rules requires that each common carrier engaged in providing facilities-based international telecommunications services between the United States and foreign points shall file annually the status of its circuits used to provide international services. The annual circuit-status report, required by Section 43.82, provides the Commission, the carriers, and others information on how U.S. international carriers use their circuits. The Commission uses the information from the circuit-status reports to ensure that carriers with market power do not use their access to circuit capacity to engage in any anti-competitive behavior. The Commission also uses the reports to implement the requirement in Section 9 of the Communications Act of 1934, as amended, that carriers pay annual regulatory fees for each of the bearer circuits they own. If the information collection was not conducted or was conducted less frequently, it would seriously undermine the Commission's authorization process. In addition, Congress mandated the Commission to collect annual regulatory fees on active equivalent 64 kilobits international circuits. Without such information, the Commission would not be able to fulfill its statutory obligation.

OMB Control Number: 3060-0955.

Title: 2 GHz Mobile Satellite Service Reports; 47 CFR 25.114; 25.115; 25.133; 25.136; 25.137; 25.143; 25.201; 25.202; 25.203; 25.279.

Form No.: Not Applicable.

Type of Review: Revision of a currently approved collection.

Respondents: Business or other for-profit.

Number of Respondents/Responses: 9 respondents; 9 responses.

Estimated Time Per Response: 3 hours.

Frequency of Response: On occasion and annual reporting requirements; Recordkeeping requirement.

Obligation to Respond: Required to obtain or retain benefits. The statutory authority for this collection is contained in Sections 4(i), 7(a), 303(c), 303(f), 303(g), and 303(r) of the Communications Act of 1934, as amended, 47 U.S.C. 154(i), 157(a), 303(c), 303(f), 303(g), and 303(r).

Total Annual Burden: 27 hours.

Annual Cost Burden: $18,000.

Privacy Act Impact Assessment: No impact(s).

Nature and Extent of Confidentiality: In general, there is no need for confidentiality.

Needs and Uses: This collection will be submitted to the Office of Management and Budget (OMB) as a revision after this 60-day comment period has ended in order to obtain the full three year OMB clearance. OMB Control No. 3060-0955 will be revised to reflect all applicable rule sections and reporting requirements.

This information collection addresses the licensing and service rules for entities to provide Mobile Satellite Service in the 2 GHz Band, specifically the 1990-2025 MHz and 2165-2200 MHz frequency bands. The information will be used by the Commission staff in carrying out its duties under the Communications Act of 1934, as amended, and to insure the public interest, safety and convenience are served. Without such information, the Commission could not determine whether to permit the respondent to provide telecommunication services in the U.S. and therefore fulfill its statutory and responsibilities in accordance with the Communications Act of 1934, as amended.

OMB Control Number: 3060-0994.

Title: Flexibility for Delivery of Communications by Mobile Satellite Service Providers in the 2 GHz Band, the L Band, and the 1.6/2.4 GHz Band; 47 CFR 25.149; 25.253; 25.254.

Form No.: Not Applicable.

Type of Review: Extension of a currently approved collection.

Respondents: Business or other for-profit.

Number of Respondents/Responses: 161 respondents; 161 responses.

Estimated Time Per Response: 1-40 hours.

Frequency of Response: On occasion, one time and annual reporting requirements; third party disclosure and recordkeeping requirements.

Obligation to Respond: Required to obtain or retain benefits. The statutory authority for this collection is contained in Sections 4(i), 7, 302, 303(c), 303(e), 303(f) and 303(r) of the Communications Act of 1934, as amended; 47 U.S.C. 154(i), 157, 302, 303(c), 303(e), 303(f) and 303(r).

Total Annual Burden: 1,326 hours.

Annual Cost Burden: $158,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The purposes of this information collection are to license commercial satellite services in the U.S.; obtain the legal and technical information required to facilitate the integration of ATCs into MSS networks in the 2 GHz Band, the L-Band, and the 1.6/2.4 GHz Bands; and to ensure that the licensees meet the Commission's legal and technical requirements to develop and maintain MSS networks while conserving limited spectrum for other telecommunications services. This information collection is used by the Commission to license commercial satellite services in the United States. Without the collection of information that would result from these final rules, the Commission would not have the necessary information to grant entities the authority to operate commercial satellite stations and provide telecommunications services to consumers.

OMB Control Number: 3060-1054.

Title: Application for Renewal of an International Broadcast Station License.

Form No.: FCC Form 422-IB.

Type of Review: Extension of a currently approved information collection.

Respondents: Business or other for-profit.

Number of Respondents/Responses: 10 respondents; 10 responses.

Estimated Time Per Response: 6 hours.

Frequency of Response: On occasion and annual reporting requirements; Recordkeeping requirement; Other requirement that pursuant to Section 73.761(b) entities immediately notify the Commission in writing of limitations and discontinuances of operation and that the Commission shall subsequently be notified when the station resumes regular operation.

Obligation to Respond: Required to obtain or retain benefits. The statutory authority for this collection is contained in 47 USC 154, 303, 334, 336 and 339.

Total Annual Burden: 60 hours.

Annual Cost Burden: $32,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The Federal Communications Commission (“Commission”) plans to implement and release to the public an “Application for Renewal of an International Broadcast Station License (FCC Form 422-IB).” The form has not been implemented yet due to a lack of budget resources and technical staff. After the FCC Form 422-IB has been implemented and the Commission receives final approval from OMB, applicants will complete the FCC Form 422-IB in lieu of the ”Application for Renewal of an International or Experimental Broadcast Station License,” (FCC Form 311). In the interim, applicants will continue to file the FCC Form 311 with the Commission. (Note: The OMB approved the FCC Form 311 under OMB Control No. 3060-1035).

The Commission stated previously that the FCC Form 422-IB will be available to applicants in the International Bureau Filing System (“MyIBFS”) after it is implemented. However, the Commission plans to develop a new Consolidated Licensing System (CLS) within the next five years that will replace MyIBFS. Therefore, the FCC Form 422-IB will be made available to the public in CLS instead of MyIBFS.

The information collected pursuant to the rules set forth in 47 CFR part 73, Subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control Number: 3060-1055.

Title: Application for Permit to Deliver Programs to Foreign Broadcast Stations.

Form No.: FCC Form 423-IB.

Type of Review: Extension of a currently approved collection.

Respondents: Business or other for-profit.

Number of Respondents/Responses: 30 respondents; 30 responses.

Estimated Time Per Response: 4 hours.

Frequency of Response: On occasion and annual reporting requirements; recordkeeping requirement; Other requirement - Pursuant to Section 73.3580 of Subpart H, broadcasters are subject to the local public notice provisions in order to ensure that the public is informed of a station's filing of an application or amendment by advertisements in local newspapers.

The public is kept abreast of the stations' existence in a local area or plans to locate in a specific local area through such advertisements. Section 73.3580 also requires that certain applications be maintained on file for public inspection at a stated address in the community in which the station is located or is proposed to be located.

Obligation to Respond: Required to obtain or retain benefits. The statutory authority for this collection is contained in 47 USC 154, 303, 334, 336 and 339.

Total Annual Burden: 240 hours.

Annual Cost Burden: $62,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The Federal Communications Commission (“Commission”) plans to implement and release to the public a new form titled, ”Application for Permit to Deliver Programs to Foreign Broadcast Stations” (FCC Form 423-IB). Due to budgetary constraints, the FCC Form 423-IB has not been implemented yet. After the Commission implements the form and receives final approval from the OMB, applicants will complete the FCC Form 423-IB in lieu of the ”Application for Permit to Deliver Programs to Experimental or Foreign Broadcast Stations,” (FCC Form 308). In the interim, applicants will continue to file the FCC Form 308 with the Commission.

Applicants will use the FCC Form 423-IB to apply, under Section 325(c) of the Communications Act of 1934, as amended, for authority to locate, use, or maintain a studio in the United States for the purpose of supplying program material to a foreign radio or TV broadcast station whose signals are consistently received in the United States, or for extension of existing authority.

The Commission stated previously that the FCC Form 423-IB will be available to applicants in the International Bureau Filing System (“MyIBFS”) after its implemented. However, the Commission plans to develop a new Consolidated Licensing System that will replace MyIBFS. Therefore, the FCC Form 423-IB will be made available to the public in CLS instead of MyIBFS.

If the Commission did not collect this information, the Commission would not be able to ascertain whether the commercial and noncommercial broadcast stations meet various technical and/or legal requirements that are critical to the operations of a broadcast station (e.g., antenna structure, marking and lighting) and to prevent harmful interference to other broadcast stations or telecommunications facilities. Furthermore, the Commission would not be able to ensure that broadcast licensees keep the public informed of the existence of broadcast stations in the local area or plans to establish broadcast stations in the local area as well as other pertinent information of interest to the public.

OMB Control Number: 3060-1056.

Title: Application for an International Broadcast Station License.

Form No.: FCC Form 421-IB.

Type of Review: Extension of a currently approved information collection.

Respondents: Business and other for-profit.

Number of Respondents/Responses: 10 respondents; 10 responses.

Estimated Time Per Response: 6 hours.

Frequency of Response: On occasion and annual reporting requirements; recordkeeping requirement; Other requirement - Section 73.761(b) requires that entities immediately notify the Commission in writing of limitations and discontinuances of operation and that the Commission shall subsequently be notified when the station resumes regular operation.

Obligation to Respond: Required to obtain or retain benefits. Required to obtain or retain benefits. The statutory authority for this collection is contained in 47 USC 154, 303, 334, 336 and 339.

Total Annual Burden: 120 hours.

Annual Cost Burden: $36,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The Federal Communications Commission (“Commission”) plans to implement and release to the public an ”Application for an International Broadcast Station License (FCC Form 421-IB).” The FCC Form 421-IB will be used by applicants to request licenses to operate international broadcast stations. The FCC Form 421-IB has not been implemented yet due to a lack of budget resources and technical staff. After the form has been implemented and the Commission has obtained final approval from the OMB, applicants will file the FCC Form 421-IB with the Commission in lieu of the ”Application for an International, Experimental Television, Experimental Facsimile, or a Developmental Broadcast Station,” (FCC Form 310). (Note: The Commission received approval from the OMB for the FCC Form 310 under OMB Control No 3060-1035). In the interim, applicants will continue to file the FCC Form 310 with the Commission.

The Commission stated previously that the FCC Form 423-IB will be available to applicants in the International Bureau Filing System (“MyIBFS”) after its development. The Commission plans to develop a new Consolidated Licensing System (CLS) that will replace MyIBFS. Therefore, the FCC Form 423-IB will be made available to the public in CLS instead of MyIBFS.

The information collected is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control Number: 3060-1057.

Title: Application for Authority to Construct or Make Changes in an International Broadcast Station.

Form No.: FCC Form 420-IB.

Type of Review: Extension of a currently approved information collection.

Respondents: Business or other for-profit.

Number of Respondents/Responses: 160 respondents; 160 responses.

Estimated Time Per Response: 1 hour.

Frequency of Response: On occasion and annual reporting requirements; recordkeeping requirement; Other requirement - Section 73.761(b) requires that entities immediately notify the Commission in writing of limitations and discontinuances of operation and that the Commission shall subsequently be notified when the station resumes regular operation.

Obligation to Respond: Required to obtain or retain benefits. The statutory authority for this collection is contained in 47 USC 154, 303, 334, 336 and 339.

Total Annual Burden: 160 hours.

Annual Cost Burden: $44,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The Federal Communications Commission (“Commission”) received approval from the OMB to develop a new application titled, “Application for Authority to Construct or Make Changes in an International Broadcast Station (FCC Form 420-IB)” to request authority from the Commission to construct or make changes in an international broadcast station. This application has not been implemented and released to the public yet due to a lack of budget resources and technical staff. After the FCC Form 420-IB has been implemented and the Commission has obtained final approval from the OMB, it will be completed by international broadcasters in lieu of the ”Application for Authority to Construct or Make Changes in an International, Experimental Television, Experimental Facsimile, or a Developmental Broadcast Station,” (FCC Form 309). In the interim, applicants will continue to file the FCC Form 309 with the Commission. (Note: The OMB approved the FCC Form 309 under OMB Control No. 3060-1035.

The Commission stated previously that the FCC Form 420-IB will be available to applicants in the International Bureau Filing System (“MyIBFS”) after its development. Within the next five years, the agency will develop a new Consolidated Licensing System that will replace MyIBFS. Therefore, the FCC Form 420-IB will be made available to the public in CLS instead of MyIBFS.

The information collected pursuant to the rules set forth in 47 CFR part 73, Subpart F, is used by the Commission to assign frequencies for use by international broadcast stations, to grant authority to operate such stations and to determine if interference or adverse propagation conditions exist that may impact the operation of such stations. If the Commission did not collect this information, it would not be in a position to effectively coordinate spectrum for international broadcasters or to act for entities in times of frequency interference or adverse propagation conditions. The orderly nature of the provision of international broadcast service would be in jeopardy without the Commission's involvement.

OMB Control Number: 3060-1063.

Title: Global Mobile Personal Communications by Satellite (GMPCS) Authorization, Marketing and Importation Rules.

Form No.: Not Applicable.

Type of Review: Extension of a currently approved collection.

Respondents: Business or other for-profit.

Number of Respondents/Responses: 19 respondents; 19 responses.

Estimated Time Per Response: 23 hours.

Frequency of Response: On occasion and one time reporting requirements; recordkeeping and third party disclosure requirements.

Obligation to Respond: Required to obtain or retain benefits. The Commission has authority for this information collection pursuant to Sections 4(i), 301, 302(a), 303(e), 303(f), 303(g), 303(n), and 303(r) of the Communications Act of 1934, as amended, 47 U.S.C. 4(i), 301, 302(a), 303(e), 303(f), 303(g), 303(n), and 303(r).

Total Annual Burden: 483 hours.

Annual Cost Burden: None.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The purpose of this information collection is to maintain OMB approval of a certification requirement for portable GMPCS transceivers to prevent interference, reduce radio-frequency (“RF”) radiation exposure risk, and make regulatory treatment of portable GMPCS transceivers consistent with treatment of similar terrestrial wireless devices, such as cellular phones.

The Commission is requiring that applicants obtain authorization for the equipment by submitting an application and exhibits, including test data. If the Commission did not obtain such information, it would not be able to ascertain whether the equipment meets the FCC's technical standards for operation in the United States. Furthermore, the data is required to ensure that the equipment will not cause catastrophic interference to other telecommunications services that may impact the health and safety of American citizens.

OMB Control Number: 3060-1066.

Title: Renewal of Application for Satellite Space and Earth Station Authorization.

Form No.: FCC Form 312-R.

Type of Review: Extension of a currently approved collection.

Respondents: Business or other for-profit.

Number of Respondents/Responses: 6 respondents; 6 responses.

Estimated Time Per Response: 1 hour.

Frequency of Response: On occasion reporting requirement.

Obligation to Respond: Required to obtain or retain benefits. The Commission has authority for this information collection under Sections 4(i), 7(a), 303(c), 303(f), 303(g), and 303(r) of the Communications Act of 1934, as amended, 47 U.S.C. 154(i), 157(a), 303(c), 303(f), 303(g), and 303(r).

Total Annual Burden: 12 hours.

Annual Cost Burden: $2,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The Commission is requesting continued OMB approval of the application titled, “Renewal of Application for Satellite Space and Earth Station Authorization (FCC Form 312-R). The FCC Form 312-R is used by earth station licensees to request renewals of their applications. Currently, this application is available in MyIBFS. However, the Commission plans to develop a new Consolidated Licensing System (CLS) that will replace MyIBFS. Therefore, the FCC Form 312-R will be made available to the public in CLS instead of MyIBFS.

This collection is used by the Commission staff in carrying out its duties concerning satellite communications as required by Sections 301, 308, 309 and 310 of the Communications Act, 47 U.S.C. 301, 308, 309, 310. This collection is also used by the Commission staff in carrying out its duties under the World Trade Organization (WTO) Basic Telecom Agreement.

The information collection requirements accounted for in this collection are necessary to determine the technical and legal qualifications of applicants or licensees to operate a station, transfer or assign a license, and to determine whether the authorization is in the public interest, convenience and necessity. Without such information, the Commission could not determine whether to permit respondents to provide telecommunication services in the U.S. Therefore, the Commission would be unable to fulfill its statutory responsibilities in accordance with the Communications Act of 1934, as amended, and the obligations imposed on parties to the WTO Basic Telecom Agreement.

OMB Control Number: 3060-1108.

Title: Consummation of Assignments and Transfers of Control of Authorization.

Form No.: Not Applicable.

Type of Review: Extension of a currently approved information collection.

Respondents: Business or other for-profit.

Number of Respondents/Responses: 589 respondents; 589 responses.

Estimated Time Per Response: 1 hour.

Frequency of Response: On occasion reporting requirement.

Obligation to Respond: Required to obtain or retain benefits. The Commission has authority for this information collection pursuant to 47 U.S.C. 154(i) and 47 CFR Sections 1.767, 25.119, 63.24(e)(4), 73.3540 and 73.3541.

Total Annual Burden: 589 hours.

Annual Cost Burden: $118,000.

Privacy Act Impact Assessment: No impact(s).

Nature and Extent of Confidentiality: In general, there is no need for confidentiality.

Needs and Uses: This collection will be submitted to the Office of Management and Budget (OMB) as an extension (no change in requirements) after this 60-day comment period has ended in order to obtain the full three year OMB clearance.

The purpose of this information collection is to request continued OMB approval of a module in the International Bureau Filing System (“MyIBFS”) to facilitate the consummation of Assignments and Transfers of Control of Authorization. A consummation is a party's notification to the Commission that a transaction (assignment or transfer of control of authorization) has been completed. A consummation is applicable to all international telecommunications and satellite services, including International High Frequency (IHF), Section 214 Applications (ITC), Satellite Space Stations (SAT), Submarine Cable Landing Licenses (SCL) and Satellite Earth Station (SES) licenses.

Without this collection of information, the Commission would not have critical information such as a change in a controlling interest in the ownership of the licensee. The Commission would not be able to carry out its duties under the Communications Act and to determine the qualifications of applicants to provide international telecommunications service, including applicants that are affiliated with foreign entities, and to determine whether and under what conditions the authorizations are in the public interest, convenience, and necessity. Furthermore, without this collection of information, the Commission would not be able to maintain effective oversight of U.S. providers of international telecommunications services that are affiliated with, or involved in certain co-marketing or similar arrangements with, foreign entities that have market power.

Federal Communications Commission.
William F. Caton,
Deputy Secretary.

[FR Doc. E9-24856 Filed 10-15-09; 8:45 am]

BILLING CODE 6712-01-S